DEPARTMENT OF AGRICULTURE

Forest Service

DEPARTMENT OF INTERIOR

Bureau of Land Management

Notice of Intent; Northern Rockies Lynx Amendments

AGENCY: Forest Service, USDA, lead agency; Bureau of Land Management, USDI, cooperating agency.

ACTION: Notice of intent to prepare an environmental impact statement.

SUMMARY: The Forest Service and Bureau of Land Management (BLM) have decided to prepare an Environmental Impact Statement (EIS) on a proposal to amend land use/land management plans to incorporate management direction for the Canada lynx for national forests and BLM units within the northern Rocky Mountain area.

A scoping notice for the preparation of an Environmental Assessment was published in the Federal Register, September 11, 2001, Vol. 66, No. 176, page 47161. Based on the level of interest expressed during scoping, the Responsible Officials have decided to prepare an EIS. The comments received during the scoping process for the Environmental Assessment will be used in preparation of the EIS; therefore scoping will not be reinitiated.

DATES: The Forest Service and BLM expect the Draft EIS to be released for public, agency, and tribal government comment in the late summer/early fall of 2002, with a Final EIS and associated decision documents expected early in 2003. Information regarding public meetings on the Draft EIS will be posted on the Internet at http://www.fs.fed.us/r1/planning/lynx.html and sent to people who commented during scoping or asked to be on the mailing list.

ADDRESSES: Send written comments to Northern Rockies Lynx Amendment, Attn: Jon Haber, Project Manager, Northern Region Headquarters, PO BOX 7669, Missoula, MT 59807.

FOR FURTHER INFORMATION CONTACT: Marcia Hogan, Public Affairs Officer, (406) 329-3300. Information regarding lynx and the planning process can also be found at http://www.fs.fed.us/r1/planning/lynx.html.

SUPPLEMENTARY INFORMATION: A scoping notice for the preparation of an Environmental Assessment was published in the Federal Register, on September 11, 2001, Vol. 66, No. 176, page 47161. The notice described the land areas involved, background information, purpose and need, proposed action, decision framework, responsible officials, public involvement, preliminary issues, and estimated dates for filing the environmental document, as well as the reviewer's obligation to comment.

The notice stated that the scoping process would be used to evaluate whether or not an EIS is warranted. It further stated, “If an EIS is warranted then written comments resulting from this notice will be used to determine the scope of alternatives and effects in the EIS.”

Based on the level of interest expressed during scoping, the Responsible Officials have decided to prepare an EIS. The comments received during the scoping process for the Environmental Assessment will be used in preparation of the EIS; therefore scoping will not be reinitiated. Several alternatives will be considered in the EIS, including the no action alternative. The action alternatives are designed to accomplish the purpose and need as stated in the September 11, 2002, Federal Register scoping notice: “To establish management direction that conserves and promotes recovery of the Canada lynx by reducing or eliminating adverse effects from land management activities on these national forests and BLM lands, while preserving the overall multiple-use direction in existing plans,” and “to achieve the stated purpose, the selected amendment must provide a level of lynx conservation and recovery comparable to the Lynx Conservation Assessment Strategy.” The primary issues include: the agencies' ability to adapt management to new information; scale to which some standards apply; limits on precommercial thinning; limit of salvage less than five acres; effect on winter recreation special use permits and agreements from requiring no-net-increase of groomed or designated routes; and the effect of road guidelines on upgrading of the transportation system. Written comments on the range of alternatives and their effects will be requested and considered when the Draft EIS is released.

The national forests and BLM units and their associated plans included in this amendment are shown below. The Federal Register notice prepared for scoping said that 18 land and resource management plans for national forests in Idaho, Montana, Utah and Wyoming, and 18 BLM land use plans in Idaho and Utah would be amended. This notice corrects that information. There are 20 land and resource management plans that would be amended on 18 National Forests and 9 BLM land use plans that would be amended on 9 BLM Field Offices. Some of the forests have been consolidated, but retain the plans for the original forest. The number of BLM plans has been modified based on additional review of lynx habitat on BLM lands.

National Forests and Associated Land Management Plans
Region 1:
Bitterroot | Bitterroot Forest Plan
Beaverhead-Deerlodge | Beaverhead Forest Plan, Deerlodge Forest Plan
Clearwater | Clearwater Forest Plan
Custer | Custer Forest Plan
Flathead | Flathead Forest Plan
Gallatin | Gallatin Forest Plan
Helena | Helena Forest Plan
Idaho Panhandle | Idaho Panhandle Forest Plan
Kootenai | Kootenai Forest Plan
Lewis and Clark | Lewis and Clark Forest Plan
Lolo | Lolo Forest Plan
Nez Perce | Nez Perce Forest Plan
Region 2:
Bighorn | Bighorn Forest Plan
Shoshone | Shoshone Forest Plan
Region 4:
Ashley | Ashley Forest Plan
Bridger-Teton | Bridger-Teton Forest Plan
Salmon-Challis | Salmon Forest Plan, Challis Forest Plan
Caribou-Targhee | Targhee Forest Plan

Bureau of Land Management Offices and Associated Land Use Plans
Idaho
Upper Columbia-Salmon/Clearwater District:
Salmon Field Office | Lemhi Resource Management Plan (RMP)
Challis Field Office | Challis RMP
Coeur d'Alene Field Office | Emerald Empire Management Framework Plan (MFP)
Cottonwood Field Office | Chief Joseph MFP
Upper Snake River District:
Idaho Falls Field Office | Medicine Lodge RMP
Pocatello Field Office | Pocatello RMP*
Shoshone Field Office | Sun Valley MFP
Lower Snake River District:
Four Rivers Field Office | Cascade RMP
Utah
Salt Lake City Field Office | Randolph MFP
*Only the linkage area direction would apply.

Dated: June 17, 2002.
Kathleen A. McAllister,
Deputy Regional Forester.

Dated: June 19, 2002.
Fritz Rennebaum,
Acting Associate Idaho State Director.

[FR Doc. 02-20719 Filed 8-14-02; 8:45 am]

BILLING CODE 3410-11-P